DEPARTMENT OF HEALTH AND HUMAN SERVICES

Administration for Children and Families

Announcement of the Award of Single-Source Cooperative Agreement to Rubicon Programs, Inc., in Richmond, CA

AGENCY: Office of Family Assistance, ACF, HHS.

ACTION: Announcement of the award of a single-source cooperative agreement to Rubicon Programs, Inc, in Richmond, CA, to support Community-Centered Responsible Fatherhood Ex-Prisoner Reentry activities to promote responsible fatherhood, family reunification, and economic stability designed to move individuals and families to self-sufficiency.

CFDA Number: 93.086.

Statutory Authority: The award is made under the authority of Claims Resettlement Act of 2010 (Pub. L. 111-291).

SUMMARY: The Administration for Children and Families (ACF), Office of Family Assistance (OFA), Division of State and Territory TANF Management (DSTTM) announces the award of a single-source cooperative agreement of $1,500,000 to Rubicon Programs, Inc., in Richmond, CA.

The cooperative agreement will support a demonstration pilot project for responsible fatherhood activities authorized by the Claims Resolution Act of 2010 (Pub. L. 111-291). The Community-Centered Responsible Fatherhood Ex-Prisoner Reentry Pilot Project supports programs that are designed to offer community-centered, pre- and post-release responsible fatherhood and supportive services to formerly incarcerated fathers. The primary purpose of the program is to eliminate barriers to social and economic self-sufficiency for individuals preparing to reenter their communities, or those who have recently returned to their communities following incarceration. The project will implement three legislatively specified activities: Healthy marriage, responsible parenting, and economic stability.

The project will implement a program that includes comprehensive case management to strengthen father, couple, and family relationships and that connect formerly incarcerated fathers to employment, housing (when necessary), and other needed support services to help reduce the likelihood of recidivism. It is expected that the full project period will be 24 months so that, based on performance; the recipient may receive an additional noncompetitive award in Fiscal Year 2013.

DATES: September 30, 2012-September 29, 2013.

FOR FURTHER INFORMATION CONTACT: Robin Y. McDonald, Division Director, Office of Family Assistance, 370 L'Enfant Promenade SW., 5th Floor East, Washington, DC 20047. Telephone: (202) 401-5587 Email: robin.mcdonald@acf.hhs.gov.

Earl S. Johnson,
Director, Office of Family Assistance, Administration for Children and Families.

[FR Doc. 2012-15783 Filed 6-27-12; 8:45 am]

BILLING CODE 4184-35-P